DEPARTMENT OF ENERGY

Federal Energy Regulatory Commission

[Project No. 2210-090]

Appalachian Power Company; Notice of Availability of Environmental Assessment

July 13, 2005.

In accordance with the National Environmental Policy Act of 1969 and the Federal Energy Regulatory Commission's (Commission) regulations, 18 CFR part 380 (Order No. 486, 52 FR 47897), the Office of Energy Projects' staff has prepared an Environmental Assessment (EA) for Appalachian Power Company's application requesting Commission approval of a shoreline management plan for the Smith Mountain Pumped Storage Project, FERC No. 2210. This project is located on the Roanoke River, in Bedford, Pittsylvania, Franklin, and Campbell Counties, Virginia.

The EA contains the staff's analysis of the potential environmental impacts of the proposal and concludes that approval of the proposal would not constitute a major Federal action significantly affecting the quality of the human environment.

A copy of the EA is attached to a Commission Order entitled “Order Modifying and Approving Shoreline Management Plan” issued on July 5, 2005 (See 112 FERC ¶ 61,026) which is available for review at the Commission in the Public Reference Room, or it may be viewed on the Commission's Web site at http://www.ferc.gov using the eLibrary link. Enter the docket number (prefaced by P-) and excluding the last three digits, in the docket number field to access the document. For assistance, please contact FERC Online Support at FERCOnlineSupport@ferc.gov or toll-free (866) 208-3676, or for TTY, contact (202) 502-8659.

For Further Information Contact: Heather Campbell at (202) 502-6182.

Magalie R. Salas,
Secretary.

[FR Doc. E5-3817 Filed 7-18-05; 8:45 am]

BILLING CODE 6717-01-P